OFFICE OF THE UNITED STATES TRADE REPRESENTATIVE

North American Free Trade Agreement; Invitation for Applications for Inclusion on the Chapter 14 Dispute Settlement Roster

AGENCY: Office of the United States Trade Representative.

ACTION: Invitation for applications.

SUMMARY: Chapter Fourteen of the North American Free Trade Agreement (“NAFTA”) provides for the establishment of a roster of individuals who would be willing and able to serve as panelists in dispute settlement proceedings arising under Chapter Fourteen (Financial Services) of the NAFTA. Individuals are appointed for a term of three years. Applications are invited from eligible individuals wishing to be included on the roster.

DATES: Applications should be received no later than August 25, 2014.

ADDRESSES: Applications should be submitted (i) electronically to www.regulations.gov, Docket Number USTR-2014-0013. If you are unable to submit an application using www.regulations.gov, please contact Sandy McKinzy at (202) 395-9483 to arrange for an alternative method of transmission.

FOR FURTHER INFORMATION CONTACT: Arthur Tsao, Assistant General Counsel, Office of the United States Trade Representative, (202) 395-6987.

SUPPLEMENTARY INFORMATION: USTR is seeking applications from interested persons to serve on the Chapter Fourteen (Financial Services) roster under the NAFTA. The details for how to apply are provided below as is a short description of the roster.

Dispute Settlement Arising Under NAFTA Chapter Fourteen

Procedures under Chapter Twenty of the NAFTA apply (as modified by Chapter Fourteen) to the avoidance or settlement of disputes between the Parties arising under Chapter Fourteen of the NAFTA. If the NAFTA Parties cannot settle a dispute through consultations, a consulting Party may refer the matter to the Free Trade Commission (“Commission”) established under the NAFTA. If the matter is not resolved within a specified time period, the Commission will, upon the request of a consulting Party, establish a dispute settlement panel to consider the matter.

Chapter Fourteen Roster and Composition of Panels

Article 1414.2 of the NAFTA provides for a roster of up to 15 persons who are willing and able to serve as financial services panelists. Financial services roster members shall be appointed by consensus of the Parties for terms of three years, and may be reappointed. A separate five-member panel is formed for each dispute. Where a Party claims that a dispute arises under Chapter Fourteen, Article 2011 (Panel Selection) shall apply, except that: (a) Where the disputing Parties so agree, the panel shall be composed entirely of panelists meeting the qualifications set out in Article 1414.3 (Dispute Settlement); and (b) in any other case, each disputing Party may select panelists meeting the qualifications set out in Article 1414.3 or in Article 2010.1 (Qualifications of Panelists), and if the Party complained against invokes Article 1410 (Exceptions), the chair of the panel shall meet the qualifications set out in Article 1414.3. For each case, roster members under consideration to serve as a panelist will be requested to complete a disclosure form, which is used to identify possible conflicts of interest or appearances thereof. The disclosure form requests information regarding financial interests and affiliations, including information regarding the identity of any clients the roster member may have and, if applicable, clients of the roster member's firm.

Criteria for Eligibility for Inclusion on Chapter Fourteen Roster

Article 1414.3 of the NAFTA provides that roster members shall (1) have expertise or experience in financial services law or practice, which may include the regulation of financial institutions; (2) be chosen strictly on the basis of objectivity, reliability, and sound judgment; (3) be independent of, and not be affiliated with or take instructions from, any Party; and (4) comply with the code of conduct established by the Parties (the “Code of Conduct for Dispute Settlement Procedures Under Chapters 19 and 20” https://www.nafta-sec-alena.org/Default.aspx?tabid=99&language=en-US).

Procedures for Selection of Chapter Fourteen Roster Members

An interagency committee chaired by the USTR prepares a preliminary list of candidates eligible for inclusion on the roster. After consultation with the Committee on Ways and Means of the House of Representatives and the Committee on Finance of the Senate, the USTR selects the final list of individuals that the United States will nominate for inclusion on the rosters. The members of the rosters are appointed by agreement of the Parties to the NAFTA.

Applications

Eligible individuals who wish to be included on the Chapter Fourteen roster for the next term of three years are invited to submit applications. Applications may be submitted e electronically to www.regulations.gov, docket number USTR-2014-0013. However, eligible individuals who have submitted a prior application for one or more lists under the Dominican Republic-Central America-United States Free Trade Agreement (“CAFTA-DR”), chapter 20 of the North American Free Trade Agreement (“NAFTA”), the United States-Peru Trade Promotion Agreement, the United States-Australia Free Trade Agreement (“USAFTA”), the United States-Colombia Trade Promotion Agreement (“USCTPA”), the United States-Korea Free Trade Agreement (“KORUS”), the United States-Morocco Free Trade Agreement (“USMFTA”), or the United States-Singapore Free Trade Agreement (“USSFTA”) in response to the Federal Register notices of January 28, 2010 (75 FR 4607) or June 25, 2012 (77 FR 37948) have the option as explained below of simply indicating that they would like their application also to include the roster under Chapter Fourteen of the NAFTA and submitting updates (if any) to their applications on file.

To submit an application via www.regulations.gov, enter docket number USTR-2014-0013 on the home page and click “search.” The site will provide a search-results page listing all documents associated with this docket. Find a reference to this notice by selecting “Notice” under “Document Type” on the left side of the search-results page, and click on the link entitled “Comment Now!.” (For further information on using the www.regulations.gov Web site, please consult the resources provided on the Web site by clicking on the “How to Use Regulations.gov” on the bottom of the page.)

The www.regulations.gov site provides the option of providing comments by filling in a “Type Comment” field or by attaching a document. USTR prefers applications to be provided in an attached document. If a document is attached, please type “Application for Inclusion on NAFTA Chapter Fourteen Roster” in the “Upload File” field.

Applications must be typewritten, and should be headed “Application for Inclusion on NAFTA Chapter Fourteen Roster.” Applications should include the following information, and each section of the application should be numbered as indicated:

1. Name of the applicant.

2. Business address, telephone number, fax number, and email address.

3. Citizenship(s).

4. Current employment, including title, description of responsibility, and name and address of employer.

5. Relevant education and professional training.

6. Fluency in any relevant language other than English, written and spoken.

7. Post-education employment history, including the dates and addresses of each prior position and a summary of responsibilities.

8. Relevant professional affiliations and certifications, including, if any, current bar memberships in good standing.

9. A list and copies of publications, testimony, and speeches, if any, concerning the relevant areas of expertise. Judges or former judges should list relevant judicial decisions. Only one copy of publications, testimony, speeches, and decisions need be submitted.

10. Summary of any current and past employment by, or consulting or other work for, the Governments of the United States, Canada, or Mexico.

11. The names and nationalities of all foreign principals for whom the applicant is currently or has previously been registered pursuant to the Foreign Agents Registration Act, 22 U.S.C. 611 et seq., and the dates of all registration periods.

12. A list of international trade proceedings or domestic proceedings relating to international trade matters or other relevant matters in which the applicant has provided advice to a party or otherwise participated.

13. A short statement of qualifications and availability for service on dispute settlement panels under NAFTA, including information relevant to the applicant's familiarity with international trade law and willingness and ability to make time commitments necessary for service on panels.

14. On a separate page, the names, addresses, telephone and fax numbers of three individuals willing to provide information concerning the applicant's qualifications for service, including the applicant's character, reputation, reliability, judgment, and familiarity with international trade law.

Prior Applicants

As indicated above, an individual who has submitted an application in response to the Federal Register notices of January 28, 2010 (75 FR 4607) or June 25, 2012 (77 FR 37948) need only indicate that the individual is interested in having their application also include the roster under Chapter Fourteen of the NAFTA, specify under which of the two Federal Register notices the individual had previously submitted an application, and submit updates (if any) to the individual's application(s) on file.

Public Disclosure

Applications normally will not be subject to public disclosure and will not be posted publicly on www.regulations.gov. They may be referred to other federal agencies and Congressional Committees in the course of determining eligibility for the roster, and shared with foreign governments and the NAFTA Secretariat in the course of panel selection.

False Statements

Pursuant to section 402(c)(5) of the NAFTA Implementation Act, false statements by applicants regarding their personal or professional qualifications, or financial or other relevant interests that bear on the applicants' suitability for placement on the Chapter Fourteen roster or for appointment to binational panels, are subject to criminal sanctions under 18 U.S.C. 1001.

Privacy Act

The following statements are made in accordance with the Privacy Act of 1974, as amended (5 U.S.C. 552a). The authority for requesting information to be furnished is section 402 of the NAFTA Implementation Act. Provision of the information requested above is voluntary; however, failure to provide the information will preclude your consideration as a candidate for the NAFTA Chapter Fourteen roster. This information is maintained in a system of records entitled “Dispute Settlement Panelists Roster.” Notice regarding this system of records was published in the Federal Register on November 30, 2001. The information provided is needed, and will be used by USTR, other federal government trade policy officials concerned with NAFTA dispute settlement, and officials of the other NAFTA Parties to select well-qualified individuals for inclusion on the Chapter Fourteen roster and for service on Chapter Fourteen dispute settlement panels.

Daniel E. Brinza,
Senior Counsel for Dispute Settlement.

[FR Doc. 2014-16108 Filed 7-9-14; 8:45 am]

BILLING CODE 3290-F4-P